FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 003847F.

Name: B.C. International Trading, Inc.

Address: 998 Arthur Kill Rd., Staten Island, NY 10312.

Date Revoked: July 27, 2007.

Reason: Failed to maintain a valid bond.

License Number: 017958F.

Name: DLM Ventures, Inc.

Address: 1850 NW. 84th Ave., Miami, FL 33126.

Date Revoked: July 26, 2007.

Reason: Surrendered license voluntarily.

License Number: 020265N.

Name: Im-Ex Global, Inc.

Address: 3901 Coyote Circle, Clayton, CA 94517.

Date Revoked: July 28, 2007.

Reason: Failed to maintain a valid bond.

License Number: 018316N.

Name: Speedway Freight Services, Inc.

Address: 167-43 148th Ave., 2nd Fl., Jamaica, NY 11434.

Date Revoked: July 27, 2007.

Reason: Failed to maintain a valid bond.

License Number: 020025NF.

Name: Valdan Group, L.L.C.

Address: 1629 World Trade Center Loop, Laredo, TX 78045.

Date Revoked: July 25, 2007.

Reason: Surrendered license voluntarily.

Sandra L. Kusumoto,
Director, Bureau of Certification and Licensing.

[FR Doc. E7-15997 Filed 8-14-07; 8:45 am]

BILLING CODE 6730-01-P